DEPARTMENT OF TRANSPORTATION

Office of the Secretary

Notice of Applications for Certificates of Public Convenience and Necessity and Foreign Air Carrier Permits Filed Under Subpart B (Formerly Subpart Q) During the Week Ending April 10, 2010

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0086.

Date Filed: April 6, 2010.

Due Date for Answers, Conforming Applications, or Motion to Modify Scope: April 27, 2010.

Description: Application of Nova Airlines AB requesting an exemption and a foreign air carrier permit to engage in charter foreign air transportation of persons, property and mail to the full extent authorized by the Air Transport Agreement between the European Community and its Member States, and the United States (“EU-US Agreement”), as follows: (i) From any point or points behind any Member States of the European Union via any point or points in any Member State and via intermediate points to any point or points in the United States and beyond; (ii) between any point or points in the United States and any point or points in any member of the European Common Aviation Area, including Norway; and (ii) other charters.

Renee V. Wright,
Program Manager, Docket Operations, Federal Register Liaison.

[FR Doc. 2010-10096 Filed 4-29-10; 8:45 am]

BILLING CODE 4910-9X-P